ENVIRONMENTAL PROTECTION AGENCY

[EPA-HQ-OAR-2007-0595; FRL—9910-17-OAR]

Proposed Information Collection Request; Comment Request; Regulation of Fuels and Fuel Additives: Detergent Gasoline (Renewal)

AGENCY: Environmental Protection Agency (EPA).

ACTION: Notice.

SUMMARY: The Environmental Protection Agency (EPA) is planning to submit an information collection request (ICR), “Regulation of Fuels and Fuel Additives: Detergent Gasoline” (EPA ICR No. 1655.09, OMB Control No. 2060-0275 to the Office of Management and Budget (OMB) for review and approval in accordance with the Paperwork Reduction Act (44 U.S.C. 3501 et seq.). Before doing so, EPA is soliciting public comments on specific aspects of the proposed information collection as described below. This is a proposed extension of the ICR, which is currently approved through September 30, 2014. An Agency may not conduct or sponsor and a person is not required to respond to a collection of information unless it displays a currently valid OMB control number.

DATES: Comments must be submitted on or before June 30, 2014.

ADDRESSES: Submit your comments, referencing Docket ID No. EPA-HQ-OAR-2007-0595, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Jaimee Dong, Fuels Compliance Center, 6406J, Environmental Protection Agency, 1200 Pennsylvania Ave. NW., Washington, DC 20460; telephone number: 202-343-9672; fax number: 202-565-2085; email address: dong.jaimee @epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Gasoline combustion results in the formation of engine deposits that contribute to increased emissions. Detergent additives deter deposit formation. The Clean Air Act requires gasoline to contain a detergent additive. The regulations at 40 CFR 80—Subpart G specify certification requirements for manufacturers of detergent additives, recordkeeping or reporting requirements for blenders of detergents into gasoline or post-refinery component (any gasoline blending stock or any oxygenate which is blended with gasoline subsequent to the gasoline refining process), and reporting or recordkeeping requirements for manufacturers, transferors, or transferees of detergents, gasoline, or post-refinery component (PRC). These requirements ensure that (1) a detergent is effective before it is certified by EPA, (2) a certified detergent, at the minimum concentration necessary to be effective (known as the lowest additive concentration (LAC)), is blended into gasoline, and (3) only gasoline which contains a certified detergent at its LAC is delivered to the consumer. EPA maintains a list of certified gasoline detergents, which is publicly available. As of March 2014, there were 374 certified detergents and 17 detergent manufacturers.

Form Numbers: None.

Respondents/affected entities: 1,368.

Respondent's obligation to respond: mandatory.

Estimated number of respondents: 69,504 (total).

Frequency of response: On occasion.

Total estimated burden: 220,181 hours (per year). Burden is defined at 5 CFR 1320.03(b).

Total estimated cost: $20,180,587 (per year), includes $335,040 annualized capital or operation & maintenance costs.

Changes in Estimates: The previous clearance consisted of 220,181 hours (3.17 hours per response), labor costs of $18,500,528, and O&M costs of $335,040, for a total cost of $18,835,568. There is no increase of hours in the total estimated respondent burden compared with the ICR currently approved by OMB. The respondent universe and responses also remained the same in this collection. There was an increase in cost to the industry of $1,345,019 per year due to updated numbers used to calculate the industry burden and to account for inflation.

Dated: April 15, 2014.
Byron Bunker,
Director, Compliance Division.

[FR Doc. 2014-09856 Filed 4-29-14; 8:45 am]

BILLING CODE 6560-50-P